DEPARTMENT OF STATE

[Public Notice 12726]

60-Day Notice of Proposed Information Collection: Foreign Diplomatic Services Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to July 8, 2025.

ADDRESSES: You may submit comments by any of the following methods:

• Web: Persons with access to the internet may comment on this notice by going to www.Regulations.gov. You can search for the document by entering “Docket Number: DOS-2025-0006” in the Search field. Then click the “Comment Now” button and complete the comment form.

• Email: OFM-EX@groups.state.gov.

• Regular Mail: Send written comments to: Office of Foreign Missions, Office of the Executive Director, 3507 International Place NW, Washington, DC 20008.

You must include the DS form number (if applicable), information collection title, and the OMB control number in any correspondence.

FOR FURTHER INFORMATION CONTACT: Direct requests for additional information regarding the collection listed in this notice, including requests for copies of the proposed collection instrument and supporting documents, to Adriana Spain, Office of Foreign Missions, Office of the Executive Director, who may be reached at (771) 205-7066 or OFM-EX@groups.state.gov.

SUPPLEMENTARY INFORMATION:

• Title of Information Collection: Foreign Diplomatic Services Applications.

• OMB Control Number: 1405-0105.

• Type of Request: insert the type of request. Revision of a Currently Approved Collection.

• Originating Office: Office of Foreign Missions/OFM.

• Form Number: DS-98, DS-99, DS-100, DS-101, DS-102, DS-104, DS-1504, DS-1972D, DS-1972T, DS-2003, DS-2004, DS-2005, DS-2006, DS-2008, DS-4138, DS-4139, DS-4140, DS-4284, DS-4285, DS-7675.

• Respondents: Foreign Mission Members.

• Estimated Number of Respondents: 121,729.

• Estimated Number of Responses: 121,729.

• Average Time per Response: 12.5 minutes.

• Total Estimated Burden Time: 23,500 hours.

• Frequency: annually.

• Obligation to Respond: Mandatory and/or Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Information collection tools for gathering data from foreign missions, including electronic data collection (e-Gov), have been combined into one request called the “Foreign Diplomatic Services Applications.” These tools help the Office of Foreign Missions and the Office of the Chief of Protocol gather the information they need to manage benefits, privileges, and immunities for foreign missions and eligible applicants. This program allows them to apply for benefits from the U.S. Department of State, as provided by the Foreign Missions Act.

Methodology

Information may be received via Email or electronic submission through eGov at https://egov.ofm.state.gov/.

Adriana E. Spain,
Executive Director, Office of Foreign Missions, Department of State.

[FR Doc. 2025-08126 Filed 5-8-25; 8:45 am]

BILLING CODE 4710-43-P